DEPARTMENT OF AGRICULTURE

Food and Nutrition Service

Agency Information Collection Activities: Proposed Collection; Comment Request—Form FNS-380, Worksheet for Food Stamp Program Quality Control Reviews

AGENCY: Food and Nutrition Service, USDA.

ACTION: Notice.

SUMMARY: As required by the Paperwork Reduction Act of 1995, this notice invites the general public and other public agencies to comment on proposed information collection of the FNS-380, Worksheet for Food Stamp Program Quality Control Reviews.

DATES: Written comments must be submitted on or before July 24, 2000.

ADDRESSES: Comments are invited on: (a) Whether the proposed collection of information is necessary for the proper performance of the functions of the agency, including whether the information has practical utility; (b) the accuracy of the agency's estimate of the burden of the proposed collection of information, including the validity of the methodology and assumptions used; (c) ways to enhance the quality, utility, and clarity of the information to be collected; (d) ways to minimize the burden of the collection of information on those who are to respond, including the use of appropriate automated, electronic, mechanical, or other technological collection techniques or other forms of information technology. Comments may be sent to: Retha Oliver, Chief, Quality Control Branch, Program Accountability Division, Food and Nutrition Service, U.S. Department of Agriculture, 3101 Park Center Drive, Alexandria, VA 22302.

All responses to this notice will be included in the request for OMB's approval. All comments will also become a matter of public record.

FOR FURTHER INFORMATION CONTACT: Requests for additional information or copies of the information collection form and instruction should be directed to Retha Oliver, (703) 305-2474.

SUPPLEMENTARY INFORMATION: Title: Worksheet for Food Stamp Program Quality Control Reviews.

OMB Number: 0584-0074.

Form Number: FNS-380.

Expiration Date: January 31, 2003.

Type of Request: Revision of a currently approved collection.

Abstract: The Food Stamp Act of 1977, as amended, (“the Act”) requires a measurement system that provides for State agencies to share in the costs of high error rates. Section 16 of the Act provides the legislative basis for the operation of the quality control (QC) system. Part 275, Subpart C of the Food Stamp Program (FSP) regulations provides the regulatory requirements for QC reporting. The Form FNS-380 is a worksheet used in the FSP to determine eligibility and benefits for households selected for review in the QC sample of active cases.

Burden Estimate: The reporting and record keeping burden for the Form FNS-380 includes the time for analyzing the household case record; planning and carrying out the field investigation; gathering, comparing, analyzing and evaluating the review data and filing any documents. The Office of Management and Budget (OMB) approved the burden for Form FNS-380 through January 31, 2003, under OMB number 0584-0074. An automated version of Form FNS-380, which will be optional for States to use, is scheduled to be completed October 1, 2000. The format and information gathered by the automated version of Form FNS-380 will be the same as the paper version of this form; therefore, there will be only a minimal difference in the burden for the electronic version from that of the paper version. We are requesting a three-year approval from OMB of the paper and automated versions of Form FNS-380.

Affected Public: Individuals or households; State or local governments.

Estimated Number of State Respondents: 53 State agencies.

Estimated Number of Affected Households: 54,663 households.

Estimated Total Number of Responses Per Year: 54,663 responses.

Estimated Time per Response for Information Collection: 9 hours.

Total Annual Burden: 491,967 hours.

Dated: May 14, 2000.
Samuel Chambers, Jr.,
Administrator, Food and Nutrition Service.

[FR Doc. 00-13017 Filed 5-23-00; 8:45 am]

BILLING CODE 3410-30-P